DEPARTMENT OF HOMELAND SECURITY

Federal Emergency Management Agency

[Docket ID FEMA-2023-0002; Internal Agency Docket No. FEMA-B-2372]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Adams | City of Thornton (23-08-0196P). | The Honorable Janifer Kulmann, Mayor, City of Thornton, 9500 Civic Center Drive, Thornton, CO 80229. | City Hall, 9500 Civic Center Drive, Thornton, CO 80229. | https://msc.fema.gov/portal/advanceSearch. | Oct. 13, 2023 | 080007
Arapahoe | Unincorporated areas of Arapahoe County (23-08-0051P). | Carrie Warren-Gully, Chair, Arapahoe County Board of Commissioners, 5334 South Prince Street, Littleton, CO 80120. | Arapahoe County Public Works and Development Department, 6924 South Lima Street, Centennial, CO 80112. | https://msc.fema.gov/portal/advanceSearch. | Nov 3, 2023 | 080011
Connecticut: Middlesex | Town of Old Saybrook (22-01-0701P). | Carl P. Fortuna, Jr., First Selectman, Town of Old Saybrook Board of Selectmen, 302 Main Street, Old Saybrook, CT 06475. | Town Hall, 302 Main Street, Old Saybrook, CT 06475. | https://msc.fema.gov/portal/advanceSearch. | Nov 17, 2023 | 090069
Florida:
Broward | City of Pompano Beach (22-04-5491P). | The Honorable Rex Hardin, Mayor at Large, City of Pompano Beach, 100 West Atlantic Boulevard, Pompano Beach, FL 33060. | Building Department, 100 West Atlantic Boulevard, Pompano Beach, FL 33060. | https://msc.fema.gov/portal/advanceSearch. | Nov 3, 2023 | 120055
Charlotte | Unincorporated areas of Charlotte County (23-04-1652P). | Bill Truex, Chair, Charlotte County Board of Commissioners, 18500 Murdock Circle, Suite 536, Port Charlotte, FL 33948. | Charlotte County Building Department, 18500 Murdock Circle, Port Charlotte, FL 33948. | https://msc.fema.gov/portal/advanceSearch. | Oct. 13, 2023 | 120061
Georgia: Effingham | Unincorporated areas of Effingham County (23-04-0200P). | Tim Callanan, Manager, Effingham County 804 South Laurel Street, Springfield, GA 31329. | Effingham County Administrative Complex, 804 South Laurel Street, Springfield, GA 31329. | https://msc.fema.gov/portal/advanceSearch. | Nov. 2, 2023 | 130076
Massachusetts:
Essex | City of Gloucester (23-01-0347P). | The Honorable Greg Varga, Mayor, City of Gloucester, 9 Dale Avenue, Gloucester, MA 01930. | City Hall, 3 Pond Road, 2nd Floor, Gloucester, MA 01930. | https://msc.fema.gov/portal/advanceSearch. | Oct. 19, 2023 | 250082
Suffolk | City of Boston (21-01-1039P). | The Honorable Michelle Wu, Mayor, City of Boston, 1 City Hall Square, Suite 500, Boston, MA 02201. | City Hall, 1 City Hall Square, Suite 500, Boston, MA 02201. | https://msc.fema.gov/portal/advanceSearch. | Oct. 20, 2023 | 250286
Suffolk | City of Revere (21-01-1039P). | The Honorable Brian M. Arrigo, Mayor, City of Revere, 281 Broadway, Revere, MA 02151. | City Hall, 281 Broadway, Revere, MA 02151. | https://msc.fema.gov/portal/advanceSearch. | Oct. 20, 2023 | 250288
Nevada: Clark | City of Henderson (23-09-0205P). | Richard Derrick, Manager, City of Henderson, 240 South Water Street, Henderson, NV 89015. | City Hall, 240 South Water Street, Henderson, NV 89015. | https://msc.fema.gov/portal/advanceSearch. | Nov. 22, 2023 | 320005
Oklahoma:
Wagoner | City of Broken Arrow (22-06-0519P). | The Honorable Debra Wimpee, Mayor, City of Broken Arrow, 220 South 1st Street, Broken Arrow, OK 74012. | Operations Building, 485 North Poplar Avenue, Broken Arrow, OK 74012. | https://msc.fema.gov/portal/advanceSearch. | Nov. 2, 2023 | 400236
Wagoner | Unincorporated areas of Wagoner County (22-06-0519P). | Chris Edwards, Chair, Wagoner County Commissioners, 908 Southwest 15th Street, Wagoner, OK 74467. | Wagoner County Courthouse, 307 East Cherokee Street, Wagoner, OK 74467. | https://msc.fema.gov/portal/advanceSearch. | Nov. 2, 2023 | 400215
Tennessee: Sumner | Unincorporated areas of Sumner County (23-04-0309P). | The Honorable John C. Isbell, Mayor, Sumner County, 355 North Belvedere Drive, Room 102, Gallatin, TN 37066. | Sumner County Administration Building, 355 North Belvedere Drive, Gallatin, TN 37066. | https://msc.fema.gov/portal/advanceSearch. | Nov. 24, 2023 | 470349
Texas:
Bexar | Unincorporated areas of Bexar County (22-06-2616P). | The Honorable Peter Sakai, Bexar County Judge, 101 West Nueva Street, 10th Floor, San Antonio, TX 78205. | Bexar County Public Works Department, 1948 Probandt Street, San Antonio, TX 78214. | https://msc.fema.gov/portal/advanceSearch. | Nov. 6, 2023 | 480035
Collin | City of Anna (22-06-2931P). | The Honorable Nate Pike, Mayor, City of Anna, P.O. Box 776, Anna, TX 75409. | Public Works, Building Department, 3223 North Powell Parkway, Anna, TX 75409. | https://msc.fema.gov/portal/advanceSearch. | Nov. 3, 2023 | 480132
Collin | City of Murphy (22-06-2774P). | The Honorable Scott Bradley, Mayor, City of Murphy, 206 North Murphy Road, Murphy, TX 75094. | City Hall, 206 North Murphy Road, Murphy, TX 75094. | https://msc.fema.gov/portal/advanceSearch. | Oct. 23, 2023 | 480137
Collin | City of Plano (22-06-2774P). | The Honorable John Muns, Mayor, City of Plano, 1520 K Avenue, Suite 250, Plano, TX 75074. | Engineering Department, 1520 K Avenue, Suite 250, Plano, TX 75074. | https://msc.fema.gov/portal/advanceSearch. | Oct. 23, 2023 | 480140
Collin | City of Richardson (22-06-2774P). | The Honorable Bob Dubey, Mayor, City of Richardson, 411 West Arapaho Road, Richardson, TX 75080. | Engineering Department, 1302 East Collins Boulevard, Richardson, TX 75081. | https://msc.fema.gov/portal/advanceSearch. | Oct. 23, 2023 | 480184
Collin | Unincorporated areas of Collin County (22-06-2774P). | The Honorable Chris Hill, Collin County Judge, 2300 Bloomdale Road, Suite 4192, McKinney, TX 75071. | Collin County Engineering Department, 4690 Community Avenue, Suite 200, McKinney, TX 75071. | https://msc.fema.gov/portal/advanceSearch. | Oct. 23, 2023 | 480130
Denton | City of Lewisville (23-06-0197P). | The Honorable T. J. Gilmore, Mayor, City of Lewisville, P.O. Box 299002, Lewisville, TX 75057. | Engineering Department, 151 West Church Street, Lewisville, TX 75057. | https://msc.fema.gov/portal/advanceSearch. | Oct. 30, 2023 | 480195
Ellis | Unincorporated areas of Ellis County (23-06-1297P). | The Honorable Todd Little, Ellis County Judge, 101 West Main Street, Waxahachie, TX 75165. | Ellis County Public Works Department, 109 South Jackson Street, Waxahachie, TX 75165. | https://msc.fema.gov/portal/advanceSearch. | Nov. 2, 2023 | 480798
Rockwall | City of Rockwall (23-06-0308P). | The Honorable Trace Johannesen, Mayor, City of Rockwall 385 South Goliad Street, Rockwall, TX 75087. | City Hall, 385 South Goliad Street, Rockwall, TX 75087. | https://msc.fema.gov/portal/advanceSearch. | Dec. 4, 2023 | 480547
Tarrant | City of Arlington (23-06-0467P). | The Honorable Jim Ross, Mayor, City of Arlington, P.O. Box 90231, Arlington, TX 76004. | City Hall, 101 West Abram Street, Arlington, TX 76010. | https://msc.fema.gov/portal/advanceSearch. | Nov. 16, 2023 | 485454
Tarrant | City of Everman (23-06-0333P). | The Honorable Ray Richardson, Mayor, City of Everman, 212 North Race Street, Everman, TX 76140. | City Hall, 212 North Race Street, Everman, TX 76140. | https://msc.fema.gov/portal/advanceSearch. | Oct. 16, 2023 | 480594
Tarrant | City of Fort Worth (22-06-1840P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Oct. 23, 2023 | 480596
Tarrant | City of Fort Worth (23-06-0164P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Oct. 23, 2023 | 480596
Tarrant | City of Fort Worth (23-06-0655P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Nov. 17, 2023 | 480596
Travis | Unincorporated areas of Travis County (23-06-0466P). | The Honorable Andy Brown, Travis County Judge, P.O. Box 1748, Austin, TX 78767. | Travis County Transportation and Natural Resources Department, 700 Lavaca Street, 5th Floor, Austin, TX 78701. | https://msc.fema.gov/portal/advanceSearch. | Dec. 11, 2023 | 481026
Wilson | Unincorporated areas of Wilson County (22-06-3006P). | The Honorable Henry L. Whitman, Jr., Wilson County Judge, 1420 3rd Street, Suite 101, Floresville, TX 78114. | Wilson County Courthouse, 1420 3rd Street, Suite 101, Floresville, TX 78114. | https://msc.fema.gov/portal/advanceSearch. | Nov. 30, 2023 | 480230
Virginia:
Loudoun | Unincorporated areas of Loudoun County (23-03-0047P). | Tim Hemstreet, Loudoun County Administrator, 1 Harrison Street, Southeast, 5th Floor, Leesburg, VA 20175. | Loudoun County Government Center, 1 Harrison Street, Southeast, 3rd Floor, MSC #60, Leesburg, VA 20175. | https://msc.fema.gov/portal/advanceSearch. | Nov. 6, 2023 | 510090
Prince William | Unincorporated areas of Prince William County (22-03-1081P). | Christopher Shorter, Prince William County Executive, 1 County Complex Court, Prince William, VA 22192. | Prince William County Watershed Management Branch, 5 County Complex Court, Suite 170, Prince William, VA 22192. | https://msc.fema.gov/portal/advanceSearch. | Oct. 27, 2023 | 510119

[FR Doc. 2023-21033 Filed 9-26-23; 8:45 am]

BILLING CODE 9110-12-P